SECURITIES AND EXCHANGE COMMISSION

Proposed Collection; Comment Request

Upon Written Request, Copies Available From: Securities and Exchange Commission, Office of Filings and Information Services, Washington, DC 20549.

Extension:

Form F-2, OMB Control No. 3235-0257, SEC File No. 270-250.

Form 18-K, OMB Control No. 3235-0120, SEC File No. 270-108.

Notice is hereby given that pursuant to the Paperwork Reduction Act of 1995 (44 U.S.C. 3501 et seq.) the Securities and Exchange Commission (“Commission”) is soliciting comments on the collections of information summarized below. The Commission plans to submit these existing collections of information to the Office of Management Budget for extension and approval.

Form F-2 is a registration statement used by foreign issuers to register securities pursuant to the Securities Act of 1933. The information collected is intended to ensure the adequacy of information available to investors in the registration of securities and assures public availability. Approximately 5 respondents file Form F-2 and it takes approximately 559 hours per response for a total burden of 2,795 hours. It is estimated that 25% of the total burden hours (699 reporting burden hours) is prepared by the company.

Form 18-K is an annual report form used by foreign governments and political subdivisions with securities listed on a United States exchange. The information to be collected is intended to ensure the adequacy of information available to investors in the registration of securities and assures public availability. Approximately 40 respondents filed Form SB-1 during the last fiscal year at an estimated 8 hours per response for a total annual burden of 320 hours. It is estimated that 100% of the total burden is prepared by the company.

Written comments are invited on: (a) Whether these proposed collections of information are necessary for the proper performance of the functions of the agency, including whether the information will have practical utility; (b) the accuracy of the agency's estimate of the burden of the collection of information collection information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street, NW., Washington, DC 20549.

Dated: May 15, 2003.
Margaret H. McFarland,
Deputy Secretary.

[FR Doc. 03-13200 Filed 5-27-03; 8:45 am]

BILLING CODE 8010-01-P